DEPARTMENT OF ENERGY

Federal Energy Regulatory Commission

[Project No. 13555-000]

Montana Department of Natural Resources and Conservation; Notice of Competing Preliminary Permit Application Accepted for Filing and Soliciting Comments and Motions To Intervene

October 16, 2009.

On July 16, 2009, the Montana Department of Natural Resources and Conservation (MDNRC) filed an application for a preliminary permit, pursuant to section 4(f) of the Federal Power Act, proposing to study the feasibility of the Red Lodge Creek Power Project, which would be located at the existing Cooney Dam on Red Lodge Creek, in Carbon County, Montana. The sole purpose of a preliminary permit, if issued, is to grant the permit holder priority to file a license application during the permit term. A preliminary permit does not authorize the permit holder to perform any land disturbing activities or otherwise enter upon lands or waters owned by others without the owners' express permission.

The proposed project would use the existing 102-foot-high, 2,369-foot-long earthen dam with spillway, and the existing 630-foot-long, 6-foot by 6-foot horseshoe-shaped tunnel conduit. MDNRC proposes to construct and install: (1) A new 5-foot-diameter, 630-foot-long steel liner in the existing dam outlet conduit; (2) a new 5-foot-diameter, 100-foot-long steel penstock extending to a bifurcation; (3) a new 5-foot-diameter, 50-foot-long steel penstock extending from the bifurcation to the powerhouse; (4) a new 5-foot-diameter, 50-foot-long steel conduit extending from the bifurcation to an energy dissipation structure for excess flows and bypass during turbine outages; (5) a new powerhouse containing two generating units with a combined installed capacity of 1,000 kilowatts, discharging flows into Red Lodge Creek; (6) a new substation next to the powerhouse; (7) a new 25-kilovolt, 4,000-foot-long transmission line; (8) a new switchyard at the interconnection point with the local grid; (9) a new approximately 650-foot-long access road; and (10) appurtenant facilities. The proposed project would have an average annual generation of 4.1 gigawatt-hours.

Applicant Contact: Kevin Smith, State Water Projects Bureau, Montana Department of Natural Resources and Conservation, 1424 9th Ave., P.O. Box 201601, Helena, MT 59620-1601; phone: (406) 444-6646.

FERC Contact: Dianne Rodman, (202) 502-6077.

Competing Application: This application competes with Project No. 13373-000 filed February 12, 2009. The April 23, 2009, notice for Project No. 13373-000 established a June 22, 2009, deadline for filing competing applications or notices of intent to file a competing application. MDNRC's notice of intent to file a competing application was timely filed on May 19, 2009, and its competing application was timely filed on July 16, 2009.

Deadline for filing comments and motions to intervene: 60 days from the issuance of this notice. Comments and motions to intervene may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13555) in the docket number field to access the document. For assistance, contact FERC Online Support.

Kimberly D. Bose,
Secretary.

[FR Doc. E9-25614 Filed 10-23-09; 8:45 am]

BILLING CODE 6717-01-P